DEPARTMENT OF ENERGY

Federal Energy Regulatory Commission

[Docket Nos. CP02-90-000, CP02-91-000, CP02-92-000, and CP02-93-000]

AES Ocean Express, LLC; Notice of Technical Conference

June 25, 2002.

AES Ocean Express, LLC (Ocean Express) seeks authorization, pursuant to Sections 3 and 7(c) of the Natural Gas Act (NGA), to construct and operate a new pipeline to import gas from the Bahamas into Florida. The proposed route for the new pipeline traverses the Naval Surface Warfare Center's South Florida Testing Facility, located in waters off the coast of Broward County, Florida. The Navy has objected to this proposed routing, contending the pipeline as planned would interfere with the operational capabilities of the area's existing in-water laboratory and measurement facilities. Ocean Express has yet to present mitigation measures or route alternatives acceptable to the Navy.

Take notice that a technical conference to discuss issues raised by proposed pipeline's routing will be held on Tuesday, July 23, 2002, at 10:00 a.m., in a room to be designated at the offices of the Federal Energy Regulatory Commission, 888 First Street, NE., Washington, DC, 20426. Parties to this proceeding and interested local, state, and federal agencies that are not parties, but that share jurisdiction or regulatory responsibilities over matters that may pertain to the proposed pipeline routing, will be permitted to attend. In view of the nature of national security issues expected to be discussed, the conference will not be open to the public.

Any party or authorized agency representative who is planning to attend the conference must notify the Commission Staff before 5 p.m. EST, Thursday, July 18, 2002. Please notify Mr. Richard Foley, Office of Energy Projects, Room 6N-07, in writing, or by calling (leave a message) at (202) 208-2245, or by e-mail to Richard.Foley@ferc.gov. If any local, state, or federal authorized agency representative is unable to attend, but wishes to participate via teleconferencing, please so indicate. Teleconferencing details will be provided later, when secure communications are assured.

Linwood A. Watson, Jr.,
Deputy Secretary.

[FR Doc. 02-16481 Filed 6-28-02; 8:45 am]

BILLING CODE 6717-01-P